DEPARTMENT OF HOMELAND SECURITY

Federal Emergency Management Agency

[Docket ID: FEMA-2010-0027]

Agency Information Collection Activities: Submission for OMB Review; Comment Request, OMB No. 1660-0037; Application Form for Single Residential Lot or Structure Amendments to National Flood Insurance Program Maps

AGENCY: Federal Emergency Management Agency, DHS.

ACTION: Notice; 30-day notice and request for comments; revision of a currently approved information collection; OMB No. 1660-0037; FEMA Form 086-0-22, Application Form for Single Residential Lot or Structure Amendments to National Flood Insurance Program Maps; FEMA Form 086-0-22A, Application Form for Single Residential Lot or Structure Amendments to National Flood Insurance Program Maps (Spanish).

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 26, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Application Form for Single Residential Lot or Structure Amendments to National Flood Insurance Program Maps.

Type of information collection: Revision of a currently approved information collection.

OMB Number: 1660-0037.

Form Titles and Numbers: FEMA Form 086-0-22, Application Form for Single Residential Lot or Structure Amendments to National Flood Insurance Program Maps; FEMA Form 086-0-22A, Application Form for Single Residential Lot or Structure Amendments to National Flood Insurance Program Maps (Spanish).

Abstract: FEMA Forms 086-0-22 and 086-0-22A are designed to assist respondents in gathering information that FEMA needs to determine whether a certain single-lot property or structure is likely to be flooded during a flood event that has a 1-percent annual chance of being equaled or exceeded in any given year (base flood).

Affected Public: Individuals or households; Business or other for profit institutions.

Estimated Number of Respondents: 18,775.

Frequency of Response: Once.

Estimated Average Hour Burden per Respondent: 2.4 Hours.

Estimated Total Annual Burden Hours: 45,060 Hours.

Estimated Cost: There are no start-up, capital, operational, or maintenance costs for this collection.

Dated: July 7, 2010.
Tammi Hines,
Acting Director, Records Management Division, Mission Support Bureau, Federal Emergency Management Agency, Department of Homeland Security.

[FR Doc. 2010-18325 Filed 7-26-10; 8:45 am]

BILLING CODE 9110-12-P